ENVIRONMENTAL PROTECTION AGENCY

[EPA-HQ-OPP-2004-0337; FRL-7757-3]

Ferbam Reregistration Eligibility Decision; Notice of Availability; Correction

AGENCY: Environmental Protection Agency (EPA).

ACTION: Notice; correction.

SUMMARY: EPA issued a notice in the Federal Register of December 30, 2005, concerning the Availability of the Ferbam RED. This document is being issued to correct typographical omissions and errors, specifically to correct the docket number OPP-2004-0337 and to add the comment period closing date (March 20, 2006.)

FOR FURTHER INFORMATION CONTACT: Amaris Johnson, Special Review and Reregistration Division (7508C), Office of Pesticide Programs, Environmental Protection Agency, 1200 Pennsylvania Ave., NW., Washington, DC 20460-0001; telephone number: (703) 305-9542; e-mail address: johnson.amaris@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established an official public docket for this action under docket identification (ID) number EPA-HQ-OPP-2004-0337. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

EDOCKET, EPA's electronic public docket and comment system was replaced on November 25, 2005, by an enhanced federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

FR Doc. E5-8034 published in the Federal Register of December 30, 2005 (70 FR 77387) (FRL-7742-8) is corrected as follows:

1. On page 77387, in the first column, the docket ID no. now reading “[OPP-2005-0478; FRL-7742-8]” should read “[EPA-HQ-OPP-2004-0337-FRL-7742-8]”

2. On the same page, in the first column, the DATES section was omitted and should be inserted after the SUMMARY paragraph to read “DATES: March 20, 2006.”

List of Subjects

Environmental protection, Pesticides and pests.

Dated: January 6, 2006.
Peter Caulkins,
Director, Special Review and Reregistration Division, Office of Pesticide Programs.

[FR Doc. E6-407 Filed 1-13-06; 8:45 am]

BILLING CODE 6560-50-S